ENVIRONMENTAL PROTECTION AGENCY

[FRL-9909-14-Region-6]

Notice of Decision To Issue Clean Air Act Greenhouse Gas PSD Permit for the La Paloma Energy Center

AGENCY: Environmental Protection Agency (EPA).

ACTION: Notice of final agency action.

SUMMARY: This notice announces that the Environmental Protection Agency (EPA) Region 6 issued a final permit decision for a Clean Air Act Greenhouse Gas (GHG) Prevention of Significant Deterioration (PSD) permit (PSD-TX-1288-GHG) for the La Paloma Energy Center, LLC, for the construction of the La Paloma Energy Center (LPEC).

DATES: EPA Region 6 issued a final PSD permit decision for the LPEC on March 21, 2014. The PSD permit for the LPEC became final and effective on March 21, 2014. Pursuant to section 307(b)(1) of the Clean Air Act, 42 U.S.C. 7607(b)(1), judicial review of this final permit decision, to the extent it is available, may be sought by filing a petition for review in the United States Court of Appeals for the Fifth Circuit within 60 days of [insert date of publication].

ADDRESSES: Documents relevant to the above-referenced permit are available for public inspection during normal business hours at the following address: U.S. Environmental Protection Agency, Region 6, 1445 Ross Avenue, Ste. 1200, Dallas, Texas 75202-2733.

FOR FURTHER INFORMATION CONTACT: Aimee Wilson, Air Permits Section (6PD-R), U.S. Environmental Protection Agency, Region 6, (214) 665-7596, wilson.aimee@epa.gov. Key portions of the administrative record for this decision (including the final permit, all public comments, EPA's responses to the public comments, and additional supporting information) are available through a link at Region 6's Web site, http://yosemite.epa.gov/r6/Apermit.nsf/AirP. Anyone who wishes to review the EPA Environmental Appeals Board (EAB or Board) decision described below or documents in the EAB's electronic docket for its decision related to this matter can obtain them at http://www.epa.gov/eab/.

SUPPLEMENTARY INFORMATION: EPA Region 6 issued its final permit decision to La Paloma Energy Center, LLC, authorizing construction and operation of the LPEC, PSD Permit No. PSD-TX-1288-GHG, on March 21, 2014. EPA Region 6 initially issued a final PSD permit decision for greenhouse gases to LPEC on November 6, 2013. A commenter filed a petition for review of the Region's November 6, 2013, permit decision for the LPEC with the EPA EAB. On March 14, 2014, the Board issued an order denying review. See In re La Paloma Energy Center, PSD Appeal No. 13-10, slip op. at 34 (EAB Mar. 14, 2014), 16 E.A.D. _. Following denial of review, pursuant to 40 CFR 124.19(l)(2), EPA Region 6 issued a final permit decision to LPEC on March 21, 2014. All conditions of the LPEC GHG PSD permit, Permit No. PSD-TX-1288-GHG, became final and effective on March 21, 2014.

Dated: March 27, 2014.
William Luthans,
Acting Director, Multimedia Planning and Permitting Division, EPA Region 6.

[FR Doc. 2014-07812 Filed 4-7-14; 8:45 am]

BILLING CODE 6560-50-P